DEPARTMENT OF ENERGY

10 CFR Part 430

[Docket No. EERE-2008-BT-STD-0005]

RIN 1904-AB57

Energy Conservation Standards for Battery Chargers and External Power Supplies: Public Meeting and Availability of the Preliminary Technical Support Document

AGENCY: Office of Energy Efficiency and Renewable Energy, Department of Energy.

ACTION: Notice of public meeting and availability of preliminary technical support document.

SUMMARY: The U.S. Department of Energy (DOE) will hold a public meeting to discuss and receive comments on the following: the product classes DOE plans to analyze for the purposes of amending energy conservation standards for Class A external power supplies (EPSs) and establishing energy conservation standards for battery chargers (BCs) and non-Class A EPSs; the analytical framework, models, and tools DOE is using to evaluate standards for these products; the results of preliminary analyses performed by DOE for these products; and potential energy conservation standard levels derived from these analyses that DOE could consider for these products. DOE also encourages interested parties to submit written comments on these subjects. To inform stakeholders and facilitate the public meeting and comments process, DOE has prepared an agenda, a preliminary technical support document (TSD), and briefing materials, which are available at: http://www1.eere.energy.gov/buildings/appliance_standards/residential/battery_external.html.

DATES: The Department will hold a public meeting on Wednesday, October 13, 2010, from 9 a.m. to 5 p.m. in Washington, DC. Any person requesting to speak at the public meeting should submit such request, along with an electronic copy of the statement to be given at the public meeting, before 4 p.m., Wednesday, September 29, 2010. Written comments are welcome, especially following the public meeting, and should be submitted by October 15, 2010.

ADDRESSES: The public meeting will be held at the U.S. Department of Energy, Forrestal Building, Room 8E-089, 1000 Independence Avenue, SW., Washington, DC 20585-0121. Please note that foreign nationals participating in the public meeting are subject to advance security screening procedures. If a foreign national wishes to participate in the public meeting, please inform DOE of this fact as soon as possible by contacting Ms. Brenda Edwards at (202) 586-2945 so that the necessary procedures can be completed.

Interested persons may submit comments, identified by docket number EERE-2008-BT-STD-0005, by any of the following methods:

• Federal eRulemaking Portal: http://www.regulations.gov. Follow the instructions for submitting comments.

• E-mail: BC&EPS_ECS@ee.doe.gov. Include EERE-2008-BT-STD-0005 and/or RIN 1904-AB57 in the subject line of the message.

• Mail: Ms. Brenda Edwards, U.S. Department of Energy, Building Technologies Program, Mailstop EE-2J, Public Meeting for Battery Chargers and External Power Supplies, EERE-2008-BT-STD-0005 and/or RIN 1904-AB57, 1000 Independence Avenue, SW., Washington, DC 20585-0121. Phone: (202) 586-2945. Please submit one signed paper original.

• Hand Delivery/Courier: Ms. Brenda Edwards, U.S. Department of Energy, Building Technologies Program, 6th Floor, 950 L'Enfant Plaza, SW., Washington, DC 20024. Phone: (202) 586-2945. Please submit one signed paper original.

Instructions: All submissions received must include the agency name and docket number or RIN for this rulemaking.

Docket: For access to the docket to read background documents, a copy of the transcript of the public meeting, or comments received, go to the U.S. Department of Energy, 6th Floor, 950 L'Enfant Plaza, SW., Washington, DC 20024, (202) 586-2945, between 9 a.m. and 4 p.m., Monday through Friday, except Federal holidays. Please call Ms. Brenda Edwards at (202) 586-2945 for additional information regarding visiting the Resource Room.

FOR FURTHER INFORMATION CONTACT: Mr. Victor Petrolati, U.S. Department of Energy, Office of Energy Efficiency and Renewable Energy, Building Technologies Program, EE-2J, 1000 Independence Avenue, SW., Washington, DC 20585-0121. Telephone: (202) 586-4549. E-mail: Victor.Petrolati@ee.doe.gov.

In the Office of General Counsel, contact Ms. Francine Pinto or Mr. Michael Kido, U.S. Department of Energy, Office of the General Counsel, GC-72, 1000 Independence Avenue, SW., Washington, DC 20585. Telephone: (202) 586-9507. E-mail: Francine.Pinto@hq.doe.gov or Michael.Kido@hq.doe.gov.

SUPPLEMENTARY INFORMATION:

Table of Contents

I. Statutory Authority

II. History of Standards Rulemaking for Battery Chargers and External Power Supplies

A. Background

B. Current Rulemaking Process

III. Summary of the Analyses Performed by DOE

A. Engineering Analysis

B. Markups to Determine Product Prices

C. Energy Use Analysis

D. Life-Cycle Cost and Payback Period Analyses

E. National Impact Analysis

I. Statutory Authority

Title III of the Energy Policy and Conservation Act (42 U.S.C. 6291 et seq.; EPCA or the Act) sets forth a variety of provisions designed to improve energy efficiency. Part A of Title III (42 U.S.C. 6291-6309) establishes the “Energy Conservation Program for Consumer Products Other Than Automobiles,” which covers consumer products and certain commercial products (all of which are referred to below as “covered products”), including BCs and EPSs.

These provisions authorize the Department to establish energy efficiency standards for certain consumer products. Any new or amended standard for these products must (1) achieve the maximum improvement in energy efficiency that is technologically feasible and economically justified, and (2) result in significant conservation of energy. (42 U.S.C. 6295(o)(2)(A)) To determine whether a proposed standard is economically justified, DOE must, after receiving comments on the proposed standard, determine whether the benefits of the standard exceed its burdens to the greatest extent practicable, considering the following seven factors:

1. The economic impact of the standard on manufacturers and consumers of products subject to the standard;

2. The savings in operating costs throughout the estimated average life of the covered products in the type (or class) compared to any increase in the price, initial charges, or maintenance expenses for the covered products which are likely to result from the imposition of the standard;

3. The total projected amount of energy savings likely to result directly from the imposition of the standard;

4. Any lessening of the utility or the performance of the covered products likely to result from the imposition of the standard;

5. The impact of any lessening of competition, as determined in writing by the Attorney General, that is likely to result from the imposition of the standard;

6. The need for national energy conservation; and

7. Other factors the Secretary [of Energy] considers relevant. (42 U.S.C. 6295(o)(2)(B)(i))

Prior to proposing a standard, DOE typically seeks public input on the analytical framework, models, and tools that will be used to evaluate standards; the results of preliminary analyses; and potential energy conservation standard levels derived from these analyses. With this notice DOE is announcing the availability of the preliminary technical support document (preliminary TSD), which details the preliminary analyses, discusses the comments on the framework document, and summarizes the preliminary results. In addition, DOE is announcing a public meeting to solicit feedback from interested parties on its analytical framework, models, and preliminary results.

II. History of Standards Rulemaking for Battery Chargers and External Power Supplies

The following sections provide a brief summary of the rulemaking activities for battery charger and external power supply energy conservation standards.

A. Background

Section 135 of the Energy Policy Act of 2005 (EPACT 2005), Public Law 109-58 amended sections 321 and 325 of EPCA by defining battery chargers and external power supplies and directing the Secretary to prescribe “definitions and test procedures for the power use of battery chargers and external power supplies” and to “issue a final rule that determines whether energy conservation standards shall be issued for battery chargers and external power supplies or classes of battery chargers and external power supplies.” (42 U.S.C. 6295(u)(1)(A) and (E))

On December 8, 2006, DOE complied with the first of these requirements by publishing a final rule that prescribed test procedures for a variety of products. 71 FR 71340, 71365-75. That rule, which is currently codified in multiple sections of the Code of Federal Regulations (CFR), included definitions and test procedures for BCs and EPSs. The test procedures for these products are found in 10 CFR part 430, subpart B, appendix Y (“Uniform Test Method for Measuring the Energy Consumption of Battery Chargers”) and 10 CFR part 430, subpart B, appendix Z (“Uniform Test Method for Measuring the Energy Consumption of External Power Supplies”).

DOE initiated the determination analysis rulemaking for BCs and EPSs in 2006, which included a scoping workshop on January 24, 2007, at DOE headquarters in Washington, DC Information pertaining to the scoping workshop can be found on DOE's Web site at http://www.eere.energy.gov/buildings/appliance_standards/residential/battery_external.html.

B. Current Rulemaking Process

Subsequent to the activities noted above, Congress enacted the Energy Independence and Security Act of 2007 (EISA 2007), Public Law 110-140 (Dec. 19, 2007), which, among other things, amended sections 321, 323, and 325 of EPCA. As part of these amendments, EISA 2007 altered the external power supply definition. Under the definition previously set by EPACT 2005, the statute defined an external power supply as “an external power supply circuit that is used to convert household electric current into DC current or lower-voltage AC current to operate a consumer product.” (42 U.S.C. 6291(36)(A)) Section 301 of EISA 2007 amended that definition by creating a subset of external power supplies called “Class A External Power Supplies.” The new subset of products consisted of those EPSs that are “able to convert to only 1 AC or DC output voltage at a time” and have “nameplate output power that is less than or equal to 250 watts.” The definition of Class A EPS excludes any device that “requires Federal Food and Drug Administration listing and approval as a medical device in accordance with section 513 of the Federal Food, Drug, and Cosmetic Act (21 U.S.C. 360c)” or “powers the charger of a detachable battery pack or charges the battery of a product that is fully or primarily motor operated.” (42 U.S.C. 6291(36)(C)) Section 301 of EISA 2007 also established for these products energy conservation standards that became effective on July 1, 2008, and directed DOE to conduct an energy conservation standards rulemaking to review those standards by July 1, 2011.

Additionally, section 309 of EISA 2007 amended section 325(u)(1)(E) of EPCA by directing DOE to issue a final rule that prescribes energy conservation standards for BCs or classes of BCs or to determine that no energy conservation standard is technologically feasible and economically justified. DOE is bundling this BC rulemaking proceeding with the requirement to review and consider amending the energy conservation standards for Class A EPSs, as both rulemakings must be completed by July 1, 2011. The new rulemaking requirements contained in sections 301 and 309 of EISA 2007 effectively superseded the prior determination analysis that EPACT 2005 required DOE to conduct.

Section 309 of EISA 2007 also instructed DOE to “issue a final rule that determines whether energy conservation standards shall be issued for external power supplies or classes of external power supplies” no later than two years after EISA 2007's enactment. (42 U.S.C. 6295(u)(1)(E)(i)(I)) Because DOE cannot conduct a determination analysis for a product for which standards have already been set, DOE interpreted these sections jointly as a requirement to determine, in a separate rulemaking, whether energy conservation standards are warranted for EPSs outside of Class A (non-Class A EPSs). Non-Class A EPSs include those with nameplate output power greater than 250 watts, those able to convert to more than one AC or DC output voltage at the same time, and those specifically excluded from coverage under the Class A EPS definition in EISA 2007 by virtue of their application, e.g., EPSs used with medical devices. DOE has determined that standards are warranted for non-Class A EPSs. The determination was published in the Federal Register on May 14, 2010. 75 FR 27170. Given the related nature of such products, DOE included non-Class A EPSs within the ongoing standards rulemaking.

Finally, section 310 of EISA 2007 established definitions for active mode, standby mode, and off mode, and directed DOE to amend its existing test procedures for BCs and EPSs to measure the energy consumed in standby mode and off mode. (42 U.S.C. 6295(gg)(2)(B)(i)) Consequently, DOE published a final rule incorporating standby and off mode measurement into the DOE test procedure. 74 FR 13318, 13334-13336 (March 27, 2009). DOE is now considering amending the test procedure for BCs to include BC active mode. A notice of proposed rulemaking (NOPR) was published in the Federal Register on April 2, 2010. 75 FR 16958.

To initiate the bundled BC and Class A EPS rulemaking, the Department published on its website the Energy Conservation Standards Rulemaking Framework Document for Battery Chargers and External Power Supplies (the framework document). The framework document explains the issues, analysis, and process DOE anticipates using to develop energy efficiency standards for those products. This document is available at: https://www1.eere.energy.gov/buildings/appliance_standards/residential/pdfs/bceps_frameworkdocument.pdf. DOE also published a notice announcing the availability of the framework document, a public meeting to discuss the proposed analytical framework, and inviting written comments concerning the development of standards for BCs and EPSs. 74 FR 26816 (June 4, 2009).

DOE held a public meeting on July 16, 2009, to discuss the analyses and issues identified in various sections of the framework document. At the meeting, DOE described the different analyses it would conduct, the methods proposed for conducting them, and the relationships among the various analyses. Manufacturers, trade associations, environmental advocates, regulators, and other interested parties attended the meeting. Comments received since publication of the framework document have helped DOE identify and resolve issues involved in the preliminary analyses. Chapter 2 of the preliminary TSD summarizes and addresses the comments DOE received.

III. Summary of the Analyses Performed by DOE

For each of the products currently under consideration, DOE conducted in-depth technical analyses in the following areas: (1) Engineering, (2) markups to determine product price, (3) energy use, (4) life-cycle cost (LCC) and payback period (PBP) analyses, and (5) national impact analysis (NIA). The preliminary TSD presents the methodology and results of each of these analyses. It is available at the Web address given in the SUMMARY section of this notice. The analyses are described in more detail below.

DOE also conducted several other analyses that either support the five major analyses or are preliminary analyses that will be expanded upon for the NOPR. These analyses include the market and technology assessment, the screening analysis (which contributes to the engineering analysis), and the shipments analysis (which contributes to the NIA). In addition to these analyses, DOE has completed preliminary work on the manufacturer impact analysis (MIA) and identified the methods to be used for the LCC subgroup analysis, the environmental assessment, the employment impact analysis, the regulatory impact analysis, and the utility impact analysis. DOE will expand on these analyses in the NOPR.

A. Engineering Analysis

The engineering analysis establishes the relationship between the cost and efficiency of a product DOE is evaluating. This relationship serves as the basis for cost-benefit calculations for individual consumers, manufacturers, and the nation. The engineering analysis identifies representative baseline products, which is the starting point for analyzing technologies that provide energy efficiency improvements. Baseline product refers to a model or models having features and technologies typically found in products currently offered for sale. The baseline model in each product class represents the characteristics of the least efficient products in that class and, for products already subject to energy conservation standards, usually is a model that just meets the current standard. Chapter 5 of the preliminary TSD discusses the engineering analysis.

B. Markups To Determine Product Prices

DOE derives consumer prices for products from data on manufacturer costs, manufacturer markups, retailer markups, distributor markups, and sales taxes. In deriving these markups, DOE has determined (1) the distribution channels for product sales; (2) the markup associated with each party in the distribution chain; and (3) the existence and magnitude of differences between markups for baseline products (baseline markups) and for more efficient products (incremental markups). DOE calculates both overall baseline and overall incremental markups based on the product markups at each step in the distribution chain. The overall incremental markup relates the change in the manufacturer sales price of higher efficiency models (the incremental cost increase) to the change in the retailer or distributor sales price. Chapter 6 of the preliminary TSD discusses estimating markups.

C. Energy Use Analysis

The energy use analysis provides estimates of the annual energy consumption of BCs and EPSs. DOE uses these values in the LCC and PBP analyses and in the NIA. DOE developed energy consumption estimates for each of the products analyzed in the engineering analysis and for those non-analyzed product classes included in the NIA. Chapter 7 of the preliminary TSD discusses the energy use analysis.

D. Life-Cycle Cost and Payback Period Analyses

The LCC and PBP analyses determine the economic impact of potential standards on individual consumers. The LCC is the total consumer expense for a product over the life of the product. The LCC analysis compares the LCCs of products designed to meet possible energy conservation standards with the LCCs of the products likely to be installed in the absence of standards. DOE determines LCCs by considering (1) total or incremental installed cost to the purchaser (which consists of manufacturer selling price, sales taxes, distribution chain markups, and installation cost); (2) the operating expenses of the products (energy use and maintenance); (3) product lifetime; and (4) a discount rate that reflects the real consumer cost of capital and puts the LCC in present-value terms. The PBP is the number of years needed to recover the increase in purchase price (including installation cost) of more efficient products through savings in the operating cost of the product. It is the quotient of the change in total installed cost due to increased efficiency divided by the change in annual operating cost from increased efficiency. Chapter 8 of the preliminary TSD discusses the LCC and PBP analyses.

E. National Impact Analysis

The NIA estimates the national energy savings (NES) and the net present value (NPV) of total consumer costs and savings expected to result from new standards at specific efficiency levels. DOE calculated NES and NPV for each candidate standard level as the difference between a base case forecast (without new standards) and the standards case forecast (with standards at that level). Cumulative energy savings are the sum of the annual NES determined over a specified time period. The national NPV is the sum over time of the discounted net savings each year, which consists of the difference between total operating cost savings and increases in total installed costs. Critical inputs to this analysis include shipments projections, estimated product lifetimes, and estimates of changes in shipments in response to changes in product costs due to standards. Chapter 10 of the preliminary TSD discusses the NIA.

DOE consulted with interested parties as part of its process for conducting all of the analyses and invites further input from the public on these topics. The preliminary analytical results are subject to revision following review and input from the public. The final rule will contain the final analysis results.

The Department encourages those who wish to participate in the public meeting to obtain the preliminary TSD and to be prepared to discuss its contents. A copy of the preliminary TSD is available at the Web address given in the SUMMARY section of this notice. However, public meeting participants need not limit their comments to the topics identified in the preliminary TSD. The Department is also interested in receiving views concerning other relevant issues that participants believe would affect energy conservation standards for these products or that DOE should address in the NOPR.

Furthermore, the Department invites all interested parties, regardless of whether they participate in the public meeting, to submit in writing by October 15, 2010, comments and information on matters addressed in the preliminary TSD and on other matters relevant to consideration of standards for battery chargers and external power supplies.

The public meeting will be conducted in an informal, conference style. A court reporter will be present to record the minutes of the meeting. There shall be no discussion of proprietary information, costs or prices, market shares, or other commercial matters regulated by United States antitrust laws.

After the public meeting and the expiration of the period for submitting written statements, the Department will consider all comments and additional information that is obtained from interested parties or through further analyses, and it will prepare a NOPR. The NOPR will include proposed energy conservation standards for the products covered by this rulemaking, and members of the public will be given an opportunity to submit written and oral comments on the proposed standards.

Issued in Washington, DC, on August 27, 2010.
Cathy Zoi,
Assistant Secretary, Energy Efficiency and Renewable Energy.

[FR Doc. 2010-23012 Filed 9-14-10; 8:45 am]

BILLING CODE 6450-01-P